DEPARTMENT OF TRANSPORTATION

Federal Aviation Administration

14 CFR Part 39

[Docket No. FAA-2009-1176; Directorate Identifier 2009-CE-062-AD]

RIN 2120-AA64

Airworthiness Directives; Hawker Beechcraft Corporation Model G58 Airplanes

AGENCY: Federal Aviation Administration (FAA), Department of Transportation (DOT).

ACTION: Notice of proposed rulemaking (NPRM).

SUMMARY: We propose to adopt a new airworthiness directive (AD) for certain Hawker Beechcraft Corporation Model G58 airplanes. This proposed AD would require inspecting the installation of stand-off hardware between the heater fuel line and the heater over-temperature sensor wires for minimum clearance and installing acceptable stand-off hardware if stand-off hardware is missing or inadequate. This proposed AD would also require inspecting the brake reservoir line and the fuel heater power wire for damage and minimum clearance, replacing any damaged wires and/or lines, and installing stand-off hardware if minimum clearance is not met. This proposed AD results from reports received of a power wire shorting out on the brake reservoir tube. We are proposing this AD to detect and correct inadequate clearance of the brake reservoir tubing and the heater fuel pump wiring, which could result in chafing and shorting out of the electrical wiring and chafing of the tubing carrying flammable fluids. This condition could lead to a fire in the nose wheel well.

DATES: We must receive comments on this proposed AD by February 1, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, P.O. Box 85, Wichita, Kansas 67201-0085; telephone: 1 (800) 429-5372 or (316) 676-3140; fax: (316) 676-3340; Internet: http://hawkerbeechcraft.com.

FOR FURTHER INFORMATION CONTACT: Kevin Schwemmer, Aerospace Engineer, 1801 Airport Road, Room 100, Wichita, Kansas 67209; telephone: (316) 946-4174; fax: (316) 946-4107.

SUPPLEMENTARY INFORMATION:

Comments Invited

We invite you to send any written relevant data, views, or arguments regarding this proposed AD. Send your comments to an address listed under the ADDRESSES section. Include the docket number, “FAA-2009-1176; Directorate Identifier 2009-CE-062-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports that on a Hawker Beechcraft Corporation Model G58 airplane a power wire shorted out on the brake reservoir tube, resulting in a fire in the nose wheel well. The 0.50-inch minimum clearance requirements may not have been met between the brake reservoir tube and the combustion heater fuel pump power wire below the left side of the nose baggage compartment.

This condition, if not corrected, could result in chafing and shorting out of the electrical wiring and chafing of the tubing carrying flammable fluids, which could lead to a fire in the nose wheel well.

Relevant Service Information

We have reviewed Hawker Beechcraft Mandatory Service Bulletin SB 32-3898, dated November 2008.

The service information describes procedures for:

• Inspecting the installation of stand-off hardware between the heater fuel line and the heater over-temperature sensor wires for minimum clearance;

• Installing acceptable stand-off hardware if stand-off hardware is missing or inadequate;

• Inspecting the brake reservoir line and the fuel heater power wire for damage and minimum clearance;

• Replacing any damaged wires and/or lines; and

• Installing stand-off hardware between the brake reservoir line and the fuel heater power wire if minimum clearance is not met.

FAA's Determination and Requirements of the Proposed AD

We are proposing this AD because we evaluated all information and determined the unsafe condition described previously is likely to exist or develop on other products of the same type design. This proposed AD would require inspecting the installation of stand-off hardware between the heater fuel line and the heater over-temperature sensor wires for minimum clearance and installing acceptable stand-off hardware if stand-off hardware is missing or inadequate. This proposed AD would also require inspecting the brake reservoir line and the fuel heater power wire for damage and minimum clearance, replacing any damaged wires and/or lines, and installing stand-off hardware if minimum clearance is not met.

Costs of Compliance

We estimate that this proposed AD would affect 71 airplanes in the U.S. registry.

We estimate the following costs to do the proposed inspection of the heater fuel line, the heater over-temperature sensor wires, the brake reservoir line, and the fuel heater power wire:

Labor cost | Parts cost | Total cost per airplane | Total cost on U.S. operators
1 work-hour × $80 per hour = $80 | Not applicable | $80 | $5,680

We estimate the following costs to do any necessary stand-off hardware installation that would be required based on the results of the proposed inspection. We have no way of determining the number of airplanes that may need this installation:

Labor cost | Parts cost | Total cost per airplane
.5 work-hour × $80 per hour = $40 | $50 | $90

We estimate the following costs to do any necessary replacement of the brake line that would be required based on the results of the proposed inspection. We have no way of determining the number of airplanes that may need this installation:

Labor cost | Parts cost | Total cost per airplane
6 work-hours × $80 per hour = $480 | $100 | $580

Hawker Beechcraft Corporation will allow warranty credit as specified in Hawker Beechcraft Mandatory Service Bulletin SB 32-3898, dated November 2008.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation: Docket No. FAA-2009-1176; Directorate Identifier 2009-CE-062-AD.

Comments Due Date

(a) We must receive comments on this airworthiness directive (AD) action by February 1, 2010.

Affected ADs

(b) None.

Applicability

(c) This AD applies to Model G58 airplanes, serial numbers TH-2125 through TH-2172 and TH-2174 through TH-2220, that are certificated in any category.

Subject

(d) Air Transport Association of America (ATA) Code 32: Landing Gear.

Unsafe Condition

(e) This AD results from reports received of a power wire shorting out on the brake reservoir tube. We are issuing this AD to detect and correct inadequate clearance of the brake reservoir tubing and the heater fuel pump wiring, which could result in chafing and shorting out of the electrical wiring and chafing of the tubing carrying flammable fluids. This condition could lead to a fire in the nose wheel well.

Compliance

(f) To address this problem, you must do the following, unless already done:

Actions | Compliance | Procedures
(1) Inspect the installation of the stand-off hardware between the heater fuel line and heater over-temperature sensor wires for minimum clearance | Within the next 50 hours time-in-service (TIS) after the effective date of this AD or within the next 12 months after the effective date of this AD, whichever occurs first | Follow Hawker Beechcraft Mandatory Service Bulletin SB 32-3898, dated November 2008.
(2) If, during the inspection required in paragraph (f)(1) of this AD, the stand-off hardware is not installed or it does not maintain the minimum clearance, install stand-off hardware as specified in the service information | Before further flight after the inspection where the missing stand-off hardware and/or inadequate clearance was found | Follow Hawker Beechcraft Mandatory Service Bulletin SB 32-3898, dated November 2008.
(3) Inspect the brake reservoir line and the fuel heater power wire for damage | Within the next 50 hours TIS after the effective date of this AD or within the next 12 months after the effective date of this AD, whichever occurs first | Follow Hawker Beechcraft Mandatory Service Bulletin SB 32-3898, dated November 2008.
(4) If, during the inspection required in paragraph (f)(3) of this AD, damage is found, repair or replace damaged tubing and/or wiring found | Before further flight after the inspection where damaged tubing and/or wiring was found | Follow Hawker Beechcraft Mandatory Service Bulletin SB 32-3898, dated November 2008.
(5) Inspect the installation of the stand-off hardware between the brake reservoir line and the fuel heater power wire for minimum clearance | Within the next 50 hours TIS after the effective date of this AD or within the next 12 months after the effective date of this AD, whichever occurs first | Follow Hawker Beechcraft Mandatory Service Bulletin SB 32-3898, dated November 2008.
(6) If, during the inspection required in paragraph (f)(5) of this AD, the stand-off hardware is not installed or it does not maintain the minimum clearance, install stand-off hardware as specified in the service information | Before further flight after the inspection where the missing stand-off hardware and/or inadequate clearance was found | Follow Hawker Beechcraft Mandatory Service Bulletin SB 32-3898, dated November 2008.

Alternative Methods of Compliance (AMOCs)

(g) The Manager, Wichita Aircraft Certification Office (ACO), FAA, has the authority to approve AMOCs for this AD, if requested using the procedures found in 14 CFR 39.19. Send information to ATTN: Kevin Schwemmer, Aerospace Engineer, 1801 Airport Road, Room 100, Wichita, Kansas 67209; telephone: (316) 946-4174; fax: (316) 946-4107. Before using any approved AMOC on any airplane to which the AMOC applies, notify your appropriate principal inspector (PI) in the FAA Flight Standards District Office (FSDO), or lacking a PI, your local FSDO.

Related Information

(h) To get copies of the service information referenced in this AD, contact Hawker Beechcraft Corporation, P.O. Box 85, Wichita, Kansas 67201-0085; telephone: 1 (800) 429-5372 or (316) 676-3140; fax: (316) 676-3340; Internet: http://hawkerbeechcraft.com. To view the AD docket, go to U.S. Department of Transportation, Docket Operations, M-30, West Building Ground Floor, Room W12-140, 1200 New Jersey Avenue, SE., Washington, DC 20590, or on the Internet at http://www.regulations.gov.

Issued in Kansas City, Missouri on December 8, 2009.
Margaret Kline,
Acting Manager, Small Airplane Directorate, Aircraft Certification Service.

[FR Doc. E9-29984 Filed 12-16-09; 8:45 am]

BILLING CODE 4910-13-P